Title 3—

The President

Proclamation 9506 of September 29, 2016

Child Health Day, 2016

By the President of the United States of America

A Proclamation

Today's youth will shape our Nation's narrative and drive our progress, and it is our duty to ensure our young people are given every opportunity to live full, healthy lives. Securing a bright future for America's daughters and sons requires us to continue expanding access to quality health care and working to foster cleaner, safer, and more supportive environments. On Child Health Day, we renew our strong commitment to protecting and empowering our children by giving them the tools, resources, and knowledge they need to grow into healthy and productive adults.

My Administration has made children's health a top priority throughout the past 8 years. Through First Lady Michelle Obama's Let's Move! initiative, we have worked to bring parents, schools, and communities together to reduce childhood obesity by increasing access to affordable and nutritious food, and by encouraging physical activity early on in life. Parents and guardians serve as role models when it comes to forming healthy habits, and they can help their children learn to make smart choices that will shape their lifestyles for years to come.

Thanks to the Affordable Care Act, no child can be denied coverage because of a pre-existing condition, and millions of young people are able to remain on a parent's insurance plan until age 26. Cancer touches the lives of millions of Americans, and pediatric cancer remains the leading cause of death by disease among children. Earlier this year, I called on Vice President Joe Biden to lead the White House Cancer Moonshot Task Force—a collaborative effort that is striving to make a decade's worth of progress in preventing, diagnosing, and treating cancer in just 5 years and is dedicated to ending cancer as we know it.

Supporting our children's emotional and mental health is just as critical as protecting their physical health. Bullying touches the lives of young people across our country and can affect their mental health, and we are committed to providing parents and schools with the support they need to address harassment—because no child should be hurt, and no child should feel ashamed because of who they are.

As we face growing environmental threats, it is our responsibility to combat climate change and protect our planet for future generations. That is why we have taken concrete steps to address carbon pollution and advocate for cleaner energy options. Through the Paris Climate Agreement, we are joining with nearly 200 countries to adopt ambitious measures that will reduce carbon pollution across the globe. By taking unprecedented action to protect the air we breathe and the water we drink, we are striving to reduce the harmful effects that climate change can have on our children, including the potential for higher incidence of asthma attacks, and other health problems exacerbated by dirty air.

This Child Health Day, we are reminded that the well-being of America's children is in our hands and that it is our responsibility to keep building a society that will allow them to thrive. Let us reaffirm our belief in the notion that all children should be able to live a healthy and happy life—no matter where they come from or what they look like—and let us continue reaching for a future where all our children are limited by nothing but the size of their dreams.

The Congress, by a joint resolution approved May 18, 1928, as amended (36 U.S.C. 105), has called for the designation of the first Monday in October as Child Health Day and has requested that the President issue a proclamation in observance of this day.

NOW, THEREFORE, I, BARACK OBAMA, President of the United States of America, do hereby proclaim Monday, October 3, 2016, as Child Health Day. I call upon families, educators, health professionals, faith-based and community organizations, and all levels of government to help ensure America's children are healthy.

IN WITNESS WHEREOF, I have hereunto set my hand this twenty-ninth day of September, in the year of our Lord two thousand sixteen, and of the Independence of the United States of America the two hundred and forty-first.

[FR Doc. 2016-24171

Filed 10-3-16; 11:15 am]

Billing code 3295-F7-P